DEPARTMENT OF ENERGY

Office of Energy Efficiency and Renewable Energy

External Merit Review Meeting

AGENCY: Wind and Water Power Technologies, Office of Energy Efficiency and Renewable Energy, Department of Energy.

ACTION: Notice of External Peer Review meeting.

SUMMARY: The Wind Power Technologies Office within the U.S. Department of Energy's (DOE) Office of Energy Efficiency and Renewable Energy intends to hold an External Merit Review in Arlington, VA, on March 24-28, 2014. The External Review Panel will review current projects and provide feedback on technical/scientific/business merit, the actual or anticipated results, and the productivity and management effectiveness of projects. The review panel will also assess projects' potential impact on the wind power industry and identify additional research initiatives and resources that might be required in the future. The event is open to the public based upon space availability.

DATES: DOE will hold the External Peer Review from Monday, March 24th, through Friday, March 28, 2014.

ADDRESSES: The public meeting will be held at the DoubleTree Crystal City, 300 Army Navy Drive, Arlington, VA 22203.

You may submit comments, identified by any of the following methods:

• Email: [Mark.Higgins@ee.doe.gov]. Include “Wind Power Peer Review” in the subject line of the message.

• Postal Mail: [Mark Higgins, EE-4W, U.S. Department of Energy, 1000 Independence Avenue SW., Washington, DC 20585] Due to the potential delays in DOE's receipt and processing of mail sent through the U.S. Postal Service, DOE encourages respondents to submit comments electronically to ensure timely receipt.

FOR FURTHER INFORMATION CONTACT: Matthew Kalmuk, BCS, Incorporated, 1400 I (Eye) St. NW., Suite 510, Washington, DC 20005, mkalmuk@bcs-hq.com.

SUPPLEMENTARY INFORMATION:

Background

The U.S. Department of Energy's (DOE) Wind and Water Power Technologies is committed to developing and deploying a portfolio of innovative technologies for clean, domestic power generation from land-based and offshore wind turbines. The Wind and Water Power Technologies portfolio is aimed at producing the next generation of wind power technologies and jump-starting private sector innovation that is critical to the country's long-term economic growth, energy security, and international competitiveness. By executing objective, comprehensive Peer Reviews, the Wind and Water Power Technologies Office ensures that its portfolio of project addresses industry needs and impacts the long-term development and deployment of wind power technologies in the United States.

Public Participation

The event is open to the public based upon space availability. DOE will also accept public comments as described in ADDRESSES for purposes of developing the Wind Power Program portfolio, but will not respond individually to comments received.

Participants at the External Merit Review should limit information and comments to those based on personal experience, individual advice, information, or facts regarding this topic. It is not the object of this session to obtain any group position or consensus from the meeting participants. To most effectively use the limited time, please refrain from passing judgment on another participant's recommendations or advice, and instead, concentrate on your individual experiences.

Following the meeting, a summary will be compiled by DOE and posted for public comment. For those interested in providing additional public comment, the summary will be posted at energy.gov/eere/wind/wind.

Information on Services for Individuals With Disabilities

Individuals requiring special accommodations at the meeting, please contact Mark Higgins no later than the close of business on March 21, 2014.

Issued in Washington, DC, on February 20, 2014.
Jose Zayas,
Director, Wind and Water Power Technologies Office, U.S. Department of Energy.

[FR Doc. 2014-04156 Filed 2-25-14; 8:45 am]

BILLING CODE 6450-01-P